DEPARTMENT OF TRANSPORTATION

Federal Aviation Administration

14 CFR Part 97

[Docket No. 30851; Amdt. No. 3486]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 20, 2012. The compliance date for each SIAP, associated Takeoff Minimums, and ODP is specified in the amendatory provisions.

The incorporation by reference of certain publications listed in the regulations is approved by the Director of the Federal Register as of July 20, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on July 6, 2012.
John Duncan,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 26 JULY 2012

Red Cloud, NE., Red Cloud Muni, Takeoff Minimums and Obstacle DP, Orig

Effective 23 AUGUST 2012

Greensboro, GA, Greene County Rgnl, LOC RWY 25, Amdt 3A

Greensboro, GA, Greene County Rgnl, RNAV (GPS) RWY 25, Amdt 1A

Tompkinsville, KY, Tompkinsville-Monroe County, RNAV (GPS) RWY 4, Orig-A

Gaithersburg, MD, Montgomery County Airpark, RNAV (GPS) RWY 14, Amdt 3A

Detroit/Grosse Ile, MI, Grosse Ile Muni, Takeoff Minimums and Obstacle DP, Amdt 5

Owatonna, MN, Owatonna Degner Rgnl, RNAV (GPS) RWY 30, Orig-A

Monticello, NY, Sullivan County Intl, ILS OR LOC RWY 15, Amdt 6

Monticello, NY, Sullivan County Intl, NDB RWY 15, Amdt 7, CANCELED

Monticello, NY, Sullivan County Intl, RNAV (GPS) RWY 15, Amdt 1

Monticello, NY, Sullivan County Intl, RNAV (GPS) RWY 33, Amdt 2

Monticello, NY, Sullivan County Intl, Takeoff Minimums and Obstacle DP, Amdt 1

Monticello, NY, Sullivan County Intl, VOR/DME RWY 33, Amdt 4

Houston, TX, Dan Jones Intl, Takeoff Minimums and Obstacle DP, Orig, CANCELED

Houston, TX, Dan Jones Intl,VOR/DME-C, Orig, CANCELED

Lubbock, TX, Lubbock Preston Smith Intl, RNAV (GPS) RWY 26, Amdt 2

Black River Falls, WI, Black River Falls Area, NDB RWY 8, Amdt 6, CANCELED

Black River Falls, WI, Black River Falls Area, RNAV (GPS) RWY 8, Amdt 1

Black River Falls, WI, Black River Falls Area, RNAV (GPS) RWY 26, Orig

Black River Falls, WI, Black River Falls Area, Takeoff Minimums and Obstacle DP, Amdt 2

Menomonie, WI, Menomonie Muni-Score Field, RNAV (GPS) RWY 9, Orig-A

Menomonie, WI, Menomonie Muni-Score Field, RNAV (GPS) RWY 27, Orig-A

Wautoma, WI, Wautoma Muni, GPS RWY 31, Orig-A, CANCELED

Wautoma, WI, Wautoma Muni, RNAV (GPS) RWY 13, Orig

Wautoma, WI, Wautoma Muni, RNAV (GPS) RWY 31, Orig

Effective 20 SEPTEMBER 2012

Soldotna, AK, Soldotna, VOR/DME-A, Amdt 7B

Marina, CA, Marina Muni, VOR RWY 11, Amdt 2

Marina, CA, Marina Muni, VOR/DME RWY 29, Amdt 2B

San Luis Obispo, CA, San Luis County Rgnl, ILS RWY 11, Amdt 2A

San Luis Obispo, CA, San Luis County Rgnl, LOC RWY 11, Orig-A

Burlington, CO, Kit Carson County, Takeoff Minimums and Obstacle DP, Orig

Lamar, CO, Lamar Muni, RNAV (GPS) RWY 8, Amdt 1

Rifle, CO, Garfield County Rgnl, ILS RWY 26, Amdt 3

Rifle, CO, Garfield County Rgnl, LOC/DME-A, Amdt 9

Rifle, CO, Garfield County Rgnl, Takeoff Minimums and Obstacle DP, Amdt 10

Rifle, CO, Garfield County Rgnl, VOR/DME-C, Amdt 3

Fort Pierce, FL, St Lucie County Intl, ILS OR LOC RWY 10R, Amdt 3

Fort Pierce, FL, St Lucie County Intl, NDB RWY 28L, Amdt 2

Fort Pierce, FL, St Lucie County Intl, NDB-A, Orig-D

Fort Pierce, FL, St Lucie County Intl, RNAV (GPS) RWY 10R, Amdt 1

Fort Pierce, FL, St Lucie County Intl, RNAV (GPS) RWY 14, Amdt 2

Fort Pierce, FL, St Lucie County Intl, RNAV (GPS) RWY 28L, Amdt 1

Fort Pierce, FL, St Lucie County Intl, RNAV (GPS) RWY 32, Amdt 1A

Fort Pierce, FL, St Lucie County Intl, VOR/DME RWY 14, Amdt 9A

Merritt Island, FL, Merritt Island, RNAV (GPS) RWY 11, Amdt 1A

Orlando, FL, Orlando Kissimmee Gateway, VOR/DME-A, Amdt 1

Orlando, FL, Orlando Sanford Intl, ILS OR LOC RWY 27R, Amdt 2

Orlando, FL, Orlando Sanford Intl, RNAV (GPS) RWY 27L, Orig

Orlando, FL, Orlando Sanford Intl, RNAV (GPS) RWY 27R, Amdt 2

Sebastian, FL, Sebastian Muni, RNAV (GPS) RWY 4, Orig-A

Titusville, FL, Space Coast Rgnl, ILS OR LOC RWY 36, Amdt 12A

Vero Beach, FL, Vero Beach Muni, VOR RWY 11R, Amdt 14

Vero Beach, FL, Vero Beach Muni, VOR/DME RWY 29L, Amdt 4

Macon, GA, Middle Georgia Rgnl, ILS OR LOC/DME RWY 5, Amdt 1

Macon, GA, Middle Georgia Rgnl, RNAV (GPS) RWY 5, Amdt 1

Macon, GA, Middle Georgia Rgnl, RNAV (GPS) RWY 13, Amdt 2

Macon, GA, Middle Georgia Rgnl, RNAV (GPS) RWY 23, Amdt 2

Macon, GA, Middle Georgia Rgnl, RNAV (GPS) RWY 31, Amdt 1

Macon, GA, Middle Georgia Rgnl, VOR RWY 13, Amdt 10

Macon, GA, Middle Georgia Rgnl, VOR RWY 23, Amdt 4

Audubon, IA, Audubon County, NDB RWY 32, Amdt 5A, CANCELED

Nampa, ID, Nampa Muni, RNAV (GPS) RWY 11, Amdt 2

Indianapolis, IN, Indianapolis Intl, ILS OR LOC RWY 32, Amdt 19

Plymouth, MA, Plymouth Muni, ILS OR LOC/DME RWY 6, Amdt 1B

Sturgis, MI, Kirsch Muni, RNAV (GPS) RWY 18, Amdt 1

Festus, MO, Festus Memorial, Takeoff Minimums and Obstacle DP, Amdt 3

Houston, MO, Houston Memorial, RNAV (GPS) RWY 16, Orig

Houston, MO, Houston Memorial, RNAV (GPS) RWY 34, Orig

Houston, MO, Houston Memorial, Takeoff Minimums and Obstacle DP, Orig

Helena, MT, Helena Rgnl, ILS OR LOC Y RWY 27, Amdt 3

Helena, MT, Helena Rgnl, ILS OR LOC Z RWY 27, Amdt 1

Jacksonville, NC, Albert J Ellis, Takeoff Minimums and Obstacle DP, Amdt 2

Morristown, NJ, Morristown Muni, RNAV (GPS) RWY 5, Amdt 3A

Lima, OH, Lima Allen County, ILS OR LOC RWY 28, Amdt 5

Lima, OH, Lima Allen County, RNAV (GPS) RWY 10, Amdt 1

Lima, OH, Lima Allen County, RNAV (GPS) RWY 28, Amdt 2

Norman, OK, University of Oklahoma Westheimer, RNAV (GPS) RWY 3, Amdt 2

Norman, OK, University of Oklahoma Westheimer, RNAV (GPS) RWY 35, Orig

Philadelphia, PA, Philadelphia Intl, ILS OR LOC/DME RWY 27R, ILS RWY 27R (SA CAT I),

ILS RWY 27R (SA CAT II), Amdt 10E

Ponce, PR, Mercedita, VOR RWY 30, Amdt 10A, CANCELED

Ponce, PR, Mercedita, VOR-A, Orig

Lemmon, SD, Lemmon Muni, Takeoff Minimums and Obstacle DP, Orig

Fredericksburg, TX, Gillespie County, RNAV (GPS) RWY 14, Amdt 1

Fredericksburg, TX, Gillespie County, RNAV (GPS) RWY 32, Amdt 1

Houston, TX, West Houston, RNAV (GPS) RWY 15, Amdt 1

Houston, TX, West Houston, RNAV (GPS) RWY 33, Amdt 1

Houston, TX, West Houston, RNAV (GPS) Z RWY 33, Orig, CANCELED

Houston, TX, West Houston, Takeoff Minimums and Obstacle DP, Amdt 4

Houston, TX, West Houston, VOR/DME RNAV RWY 15, Amdt 4, CANCELED

Houston, TX, West Houston, VOR/DME RNAV RWY 33, Amdt 4, CANCELED

Houston, TX, West Houston, VOR-D, Amdt 1

Pecos, TX, Pecos Muni, GPS RWY 14, Orig-B, CANCELED

Pecos, TX, Pecos Muni, RNAV (GPS) RWY 14, Orig

Pecos, TX, Pecos Muni, RNAV (GPS) RWY 32, Orig

Pecos, TX, Pecos Muni, Takeoff Minimums and Obstacle DP, Orig

Heber, UT, Heber City Muni-Russ McDonald Field, COOLI (RNAV) THREE Graphic DP

Heber, UT, Heber City Muni-Russ McDonald Field, Takeoff Minimums and Obstacle DP, Amdt 3.

Grantsburg, WI, Grantsburg Muni, Takeoff Minimums and Obstacle DP, Orig-A

Neillsville, WI, Neillsville Muni, GPS RWY 27, Orig, CANCELED

Neillsville, WI, Neillsville Muni, NDB RWY 28, Amdt 7

Neillsville, WI, Neillsville Muni, RNAV (GPS) RWY 10, Orig

Neillsville, WI, Neillsville Muni, RNAV (GPS) RWY 28, Orig

Neillsville, WI, Neillsville Muni, Takeoff Minimums and Obstacle DP, Orig

New Lisbon, WI, Mauston-New Lisbon Union, GPS RWY 32, Amdt 1, CANCELED

New Lisbon, WI, Mauston-New Lisbon Union, RNAV (GPS) RWY 14, Orig

New Lisbon, WI, Mauston-New Lisbon Union, RNAV (GPS) RWY 32, Orig

Worland, WY, Worland Muni, RNAV (GPS) RWY 16, Orig

Worland, WY, Worland Muni, RNAV (GPS) RWY 34, Orig

Worland, WY, Worland Muni, Takeoff Minimums and Obstacle DP, Amdt 2

Worland, WY, Worland Muni, VOR RWY 16, Amdt 6

[FR Doc. 2012-17289 Filed 7-19-12; 8:45 am]

BILLING CODE 4910-13-P